DEPARTMENT OF THE INTERIOR

Fish and Wildlife Service

50 CFR Part 17

RIN 1018-AF32

Endangered and Threatened Wildlife and Plants; Reopening of Comment Period and Notice of Availability of Draft Economic Analysis for Proposed Critical Habitat Determination for the Coastal California Gnatcatcher

AGENCY: Fish and Wildlife Service, Interior.

ACTION: Proposed rule; reopening of comment period and notice of availability of draft economic analysis; correction.

SUMMARY: This document corrects the electronic mail (e-mail) address listed in a document published in the Federal Register on June 29, 2000, regarding the reopening of comment period and notice of availability of draft economic analysis for proposed critical habitat determination for the coastal California gnatcatcher. This clarification provides the correct e-mail address for submission of electronic comments on the proposed critical habitat determination of the coastal California gnatcatcher and the draft economic analysis for the proposed critical habitat determination.

FOR FURTHER INFORMATION CONTACT: Douglas Krofta, 760-431-9440.

Correction

In the document announcing the reopening of comment period and notice of availability of draft economic analysis for proposed critical habitat determination for the coastal California gnatcatcher, FR 00-16511, beginning on page 40073 in the issue of June 29, 2000, make the following correction in the ADDRESSES section. On page 40074 in the 1st column, correct the e-mail address from “http://pacific.fws.gov/crithab/cg” to “fw1cagn@fws.gov.”

Dated: June 29, 2000.
Michael J. Spear,
Manager, California/Nevada Operations.

[FR Doc. 00-17566 Filed 7-10-00; 8:45 am]

BILLING CODE 4310-55-P